DEPARTMENT OF THE INTERIOR

Bureau of Land Management

[ID-077-1430-ES; IDI-34149]

Notice of Realty Action, Recreation and Public Purposes (R&PP) Act Classification, ID

AGENCY: Bureau of Land Management, Interior.

ACTION: Notice of Realty Action.

SUMMARY: The following public lands, managed by the Bureau of Reclamation (BOR), in Minidoka County, Idaho have been examined and found suitable for classification for sale to the City of Rupert, Idaho (City), under the provisions of the Recreation and Public Purposes Act, as amended (43 U.S.C. 869 et seq.). The City proposes to use the land for the application of treated waste water from their existing waste water treatment plant by center pivot, wheel line and hand line sprinkler irrigation systems and to allow farming of the land via agreements with local farmers.

T. 8 S., R. 24 E., Boise Meridian

section 34: S½SE¼,NW¼,SW3¼,

section 35: E½,SW¼.

The area described contains 600 acres, more or less, in Minidoka County, ID.

Approximately 100 acres of the parcel proposed for sale is currently being used for land application and farming purposes under a lease from the BOR to the City. The City is proposing to add two additional pivots as well as wheel lines and hand lines so as to provide approximately 565 acres of land application/farmed area within the 600 acre parcel.

The above described lands are not needed for Federal (BOR) purposes in accordance with their land use planning and a notice has been filed with the BLM to revoke the reclamation withdrawals on these lands. The sale of these lands is consistent with the Monument Resource Management Plan and would be in the public interest.

The R & PP Patent, when issued, will be subject to the following terms, conditions, and reservations:

1. Provisions of the Recreation and Public Purposes Act and to all applicable regulations of the Secretary of the Interior.

2. A right-of-way for ditches and canals constructed by the authority of the United States.

3. All minerals shall be reserved to the United States, together with the right to prospect for, mine and remove the minerals.

Detailed information concerning this action is available for review at the Burley Field Office of the Bureau of Land Management, 15 East 200 South, Burley, Idaho.

Upon publication of this notice in the Federal Register, the lands will be segregated from all other forms or appropriation under the public land laws, including the general mining laws, except for sale under the Recreation and Public Purposes Act and leasing under the mineral leasing laws.

For a period of 45 days from the date of publication of this notice in the Federal Register, interested persons may submit comments regarding the proposed classification or sale of the lands to the Field Office Manager, Burley Field Office, 15 East 200 South, Burley, Idaho 83318.

Classification Comments: Interested parties may submit comments involving the suitability of the land for application of treated waste water. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for application of treated waste water.

Any adverse comments will be reviewed by the State Director. In the absence of any adverse comments, the classification will become effective 60 days from the date of publication of this notice in the Federal Register.

Dated: March 28, 2003.
Bernie Jansen,
Acting Burley Field Office Manager.

[FR Doc. 03-12510 Filed 5-19-03; 8:45 am]

BILLING CODE 4310-GG-P